DEPARTMENT OF TRANSPORTATION

Coast Guard

33 CFR Part 165

[CGD05-02-095]

RIN 2115-AA97

Safety Zone; Cove Point, Chesapeake Bay, MD

AGENCY: Coast Guard, DOT.

ACTION: Notice of enforcement of regulation.

SUMMARY: The Coast Guard will resume enforcement of the safety zone at the Cove Point liquefied natural gas (LNG) facility's offshore terminal on the Chesapeake Bay. The Coast Guard has not enforced the safety zone since the facility discontinued LNG operations in 1980. Due to construction activity at the terminal, the Coast Guard will resume enforcement of the safety zone.

DATES: This notice of enforcement is effective on November 26, 2002.

FOR FURTHER INFORMATION CONTACT: Lieutenant Dulani Woods, at Coast Guard Activities Baltimore, Port Safety, Security and Waterways Management Branch, at (410) 576-2513.

SUPPLEMENTARY INFORMATION:

Background and Purpose

The liquefied natural gas (LNG) facility at Cove Point, Maryland is in the process of updating its terminal equipment in anticipation of transfer operations beginning in the spring of 2003. Although the Captain of the Port (COTP) Baltimore has not yet issued a Letter of Recommendation under 33 Code of Federal Regulations (CFR) part 127.009, enforcement of the safety zone established in 33 CFR 165.502 will now resume.

The Cove Point facility originally started terminal operations in 1978 and conducted transfers of LNG from vessels until 1980. During this period a safety zone was established and actively enforced. Safety zone enforcement ceased when LNG transfer operations were stopped. The facility's terminal is located approximately one mile from shore and has developed into a fishing area since the terminal ceased transfer operations. Numerous commercial and recreational boats frequent this area during fishing seasons and at other times throughout the year.

The Coast Guard will resume continual enforcement of the safety zone during the construction process at the terminal, when heavy equipment will be in operation in the area. The enforcement of the safety zone will prevent unauthorized vessels from entering the work zone and creating safety hazards.

Dated: November 8, 2002.
R.B. Peoples,
Captain, U.S. Coast Guard, Captain of the Port, Baltimore, Maryland.

[FR Doc. 02-29972 Filed 11-25-02; 8:45 am]

BILLING CODE 4910-15-P